POSTAL SERVICE

39 CFR Part 111

Premium Forwarding Service

AGENCY: Postal Service™.

ACTION: Final rule.

SUMMARY: This final rule revises Mailing Standards of the United States Postal Service, Domestic Mail Manual (DMM®) to make Premium Forwarding Service (PFS) a permanent mail classification. There are no major changes in the permanent PFS classification compared with the experimental service offering.

DATES: Effective Date: March 2, 2008.

FOR FURTHER INFORMATION CONTACT: Laraine Hope at 202-268-2138 or Garry Rodriguez at 202-268-7281.

SUPPLEMENTARY INFORMATION: The Postal Service published a final rule in the Federal Register on June 10, 2005 (70 FR 33836), introducing a new service called Premium Forwarding Service (PFS). PFS is a personalized service for reshipping mail from a customer's primary mailing address to a temporary address on a weekly basis using Priority Mail®. With PFS, the Postal Service reships mail to customers who are away for at least two weeks and up to one year.

The Postal Service filed a Request for a Recommended Decision with the Postal Regulatory Commission on July 31, 2007, to make the experimental classification permanent. On January 7, 2008, the Postal Regulatory Commission issued its Recommended Decision that PFS become a permanent service offering (Docket No. MC2007-3). The Governors accepted that recommendation and the Board of Governors (BOG) of the Postal Service, in Resolution 08-1 (January 24, 2008), directed implementation of PFS as a permanent mail classification on March 2, 2008.

PFS will be a permanent classification effective March 2, 2008. There are no major changes in the permanent PFS classification compared with the experimental service offering.

There were two minor changes made to the DMM language. The name of the fee charged to customers when they apply to use PFS is now referred to as an “application fee” for consistency. Also, the references to oversized parcels in renumbered sections 3.3.7 (formerly 709.4.3.7) and 3.4.1 (formerly 709.4.4.1) were removed due to redundancy. Although the references to oversized parcels have been removed from the aforementioned sections, any oversized parcel not requiring a scan or signature or arriving postage due at the primary address is still charged the appropriate oversized Parcel Post® rate.

The Postal Service adopts the following changes to Mailing Standards of the United States Postal Service, Domestic Mail Manual (DMM), which is incorporated by reference in the Code of Federal Regulations. See 39 CFR 111.1.

List of Subjects in 39 CFR Part 111

Administrative practice and procedures, Postal Service.

Accordingly, 39 CFR part 111 is amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

500 Additional Mailing Services

* * * * *

507 Mailer Services

* * * * *

[Renumber 3.0 through 12.0 as 4.0 through 13.0. Add new 3.0, Premium Forwarding Service, as follows:]

3.0 Premium Forwarding Service

3.1 Rates and Fees

3.1.1 Application Fee

Customers must pay a $10.00 nonrefundable application fee.

3.1.2 Weekly Reshipment Charge

The reshipment charge for each Priority Mail shipment to one temporary address is $11.95 for each week of service requested. The amount due for the total weeks requested must be paid in full at the time the application is received.

3.1.3 Extension of Service

A Premium Forwarding Service (PFS) customer may contact the post office responsible for delivery to the primary address prior to the last shipment date and extend PFS service (up to 1 year maximum service from the initial start date) as needed. An extension is processed only after the post office receives payment of the reshipment charges due for the total weeks of extension requested.

3.1.4 Early Termination of Service

A customer who terminates PFS early (e.g., a customer prepays for 10 weeks but returns to a primary address after 8 weeks, either temporarily or permanently) may request a refund for any unused weekly shipment charges from the post office serving the primary address. The application fee is nonrefundable.

3.2 Basic Standards

3.2.1 Description

Premium Forwarding Service (PFS) provides residential delivery customers and certain post office box customers an option to have all mail addressed to their primary address reshipped or rerouted to a temporary address, mainly by means of a weekly Priority Mail shipment. PFS is available for a period of not less than 2 weeks and not more than 1 year. This optional service is separate from the piece-by-piece forwarding service offered in 2.0, whereby only certain mailpieces are forwarded.

3.2.2 Use

Participation in PFS is subject to the following standards:

a. PFS is available to residential delivery customers and to post office box customers with a size-one or size-two post office box.

b. A customer must submit a completed PFS application, Form 8176, Premium Forwarding Service (PFS) Application, as specified by the Postal Service. The application fee and weekly reshipment charges for the full duration of the requested service must accompany the application.

c. Except as provided in 3.2.2d, customers must designate on the application whether the order is for an “Individual” or an “Entire Household.”

d. For customers whose primary address is a post office box, only the box customer is authorized to initiate the application and “Entire Household” must be designated on the application.

e. PFS is available for a period of not less than 2 weeks and not more than 1 year.

f. PFS is available only from and to domestic addresses.

g. PFS is available to, but not from, single-point central delivery addresses such as RV parks, hospitals, hotels, and U.S. Department of State addresses. See 703.3.0 for additional U.S. Department of State requirements.

3.2.3 Prohibited Use

PFS cannot be combined with any ancillary or extra services beyond those purchased by the original sender. In addition, PFS is not available for:

a. Customers who have an active temporary or permanent change-of-address (COA).

b. Customers who have an active Hold Mail Authorization (PS Form 8076). Mail that has previously been held at the primary address post office cannot be included in PFS reshipments to a customer's temporary address.

c. Customers whose primary address is a size-three, size-four, or size-five post office box. Residential customers who use these post office box sizes due to the unavailability of smaller boxes may request a waiver of this restriction.

d. Customers whose primary address is a business delivery address.

e. Customers whose primary address is a central point to which the USPS provides delivery in bulk to a third party, such as a commercial mail receiving agency (CMRA), RV park, trailer park, or hotel.

f. Customers whose primary address or temporary address is an APO or FPO.

g. Customers whose temporary address is within the 969 3-digit ZIP Code area or is otherwise in a U.S. territory or possession that requires a customs declaration.

3.3 Preparation

3.3.1 Weekly Priority Mail Reshipments

Regardless of any mailer's ancillary service endorsement on a mailpiece, all mail is reshipped in the weekly Priority Mail shipment, except as specified in 3.3.2 through 3.4.1.

3.3.2 Mailpieces Arriving at the Primary Address Endorsed “Surface Mail Only” or With Other Hazardous Materials Markings

Any mailpiece arriving at the primary address that indicates surface only transportation such as Label 127, “Surface Mail Only” or bears other hazardous materials markings such as “Consumer Commodity ORM-D”, cannot be reshipped in the weekly Priority Mail shipment and must be rerouted separately via surface transportation.

3.3.3 Mailpieces Requiring a Scan or Signature at Delivery

Mailpieces requiring a scan or signature at delivery, such as Express Mail, Certified Mail, numbered insured mail or mailpieces with Delivery Confirmation, are appropriately scanned, then rerouted immediately and separately to the temporary address, subject to the following:

a. Express Mail, Priority Mail, and First-Class Mail are rerouted at no additional charge.

b. Standard Mail parcels are separately rerouted postage due at the appropriate 1-pound Parcel Post single-piece rate.

c. Package Services mailpieces (Parcel Post, Bound Printed Matter, Media Mail, and Library Mail) are separately rerouted postage due at the appropriate single-piece rate in the subclass in which the mailpiece was originally shipped. For Parcel Select items, the applicable rate is the Parcel Post rate.

3.3.4 Priority Mail Not Requiring a Scan or Signature at Delivery

Priority Mail that does not require a scan or signature at delivery is immediately and separately rerouted to the temporary address, unless it will fit into the weekly Priority Mail shipment and such inclusion does not delay its delivery to the temporary address.

3.3.5 Large First-Class Mail and Periodicals Parcels Not Requiring a Scan or Signature at Delivery

First-Class Mail and Periodicals parcels (firm bundles) not requiring a scan or signature at delivery and that do not fit into the weekly Priority Mail shipment are separately rerouted at no additional charge.

3.3.6 Standard Mail Parcels Not Requiring a Scan or Signature at Delivery

Eligible Standard Mail parcels that do not require a scan or signature at delivery are included in the weekly Priority Mail shipment provided they will fit. Parcels that do not fit or are otherwise ineligible (e.g., mailpieces identified as surface transportation only) are separately rerouted postage due at the appropriate 1-pound Parcel Post single-piece rate.

3.3.7 Package Services Mailpieces Not Requiring a Scan or Signature at Delivery

Package Services mailpieces not requiring a scan or signature at delivery are separately rerouted postage due at the appropriate single-piece rate in the subclass in which the mailpiece was originally shipped. For Parcel Select items, the applicable rate is the Parcel Post rate.

3.4 Enter and Deposit

3.4.1 Mailpieces Arriving Postage Due at the Primary Address

Any mailpiece arriving postage due at the Post Office serving a customer's primary address is not reshipped in the weekly Priority Mail shipment and will be rerouted individually. Mailpieces arriving postage due are rerouted as follows:

a. Postage due First-Class Mail mailpieces are rerouted as First-Class Mail postage due. Only the original postage due amount is collected. There is no additional charge for rerouting the mailpiece.

b. Postage due Priority Mail mailpieces are rerouted as Priority Mail postage due. Only the original postage due amount is collected. There is no additional charge for rerouting the mailpiece.

c. Postage due Package Services mailpieces are rerouted postage due at the appropriate single-piece rate in the subclass in which the mailpiece was originally shipped. For Parcel Select items, the applicable rate is the Parcel Post rate. The total postage due for Package Services mailpieces is the sum of the postage due at the time of receipt at the primary address plus the postage due for rerouting the mailpiece from the primary post office to the temporary address at the appropriate single-piece rate.

* * * * *

700 Special Standards

* * * * *

709 Experimental Classifications and Rates

[Delete 4.0, Premium Forwarding Service. Premium Forwarding Service becomes a permanent offering in 507.]

* * * * *

An appropriate amendment to 39 CFR part 111 to reflect these changes will be published.

Neva Watson,
Attorney, Legislative.

[FR Doc. E8-2919 Filed 2-19-08; 8:45 am]

BILLING CODE 7710-12-P